DEPARTMENT OF COMMERCE

National Oceanic and Atmospheric Administration

Agency Information Collection Activities; Submission to the Office of Management and Budget (OMB) for Review and Approval; Comment Request; Basic Requirements for Special Exception Permits and Authorizations To Take, Import, and Export Marine Mammals, Threatened and Endangered Species, and for Maintaining a Captive Marine Mammal Inventory Under Section 104 of the Marine Mammal Protection Act, the Fur Seal Act, and/or Section 10(a)(1)(A) of the Endangered Species Act

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to the Office of Management and Budget (OMB).

DATES: To ensure consideration, comments regarding this proposed information collection must be received on or before August 28, 2023.

ADDRESSES: Interested persons are invited to submit written comments to Adrienne Thomas, NOAA PRA Officer, at NOAA.PRA@noaa.gov. Please reference OMB Control Number 0648-0084 in the subject line of your comments. Do not submit Confidential Business Information or otherwise sensitive or protected information.

FOR FURTHER INFORMATION CONTACT: Requests for additional information or specific questions related to collection activities should be directed to Amy Sloan or Carrie Hubard, National Marine Fisheries Service (NMFS), Office of Protected Resources, Permits and Conservation Division, 1315 East-West Highway, Silver Spring, MD 20910 (301-427-8401), amy.sloan@noaa.gov or carrie.w.hubard@noaa.gov.

SUPPLEMENTARY INFORMATION:

I. Abstract

The NMFS, Office of Protected Resources, Permits and Conservation Division is proposing an extension and revision of the currently approved information collection OMB Control Number 0648-0084. The information collection request (IRC) is under the authority of the Marine Mammal Protection Act (16 U.S.C. 1361 et seq.; MMPA), the Fur Seal Act (16 U.S.C. 1151 et seq.; FSA), and the Endangered Species Act (16 U.S.C. 1531 et seq.; ESA). This information collection applies to certain protected species for which NMFS is responsible: cetaceans (whales, dolphins and porpoises) and pinnipeds (seals and sea lions); and, for ESA scientific research and enhancement permits: smalltooth sawfish, sea turtles (in water), sturgeon (Atlantic and shortnose), and certain foreign ESA-listed species. This information collection may be used for future ESA-listed species.

MMPA Section 104 and ESA Section 10(a)(1)(A) Permit Applications

The MMPA, FSA, and ESA prohibit “take” (e.g., to harass or harm), import, and export of marine mammals and endangered and threatened species, with limited exceptions. Pursuant to Section 104 of the MMPA and Section 10(a)(1)(A) of the ESA, individuals, business or other for-profit organizations, not-for-profit institutions, and government agencies may obtain special exception permits to take, import, or export marine mammals or endangered or threatened species for scientific research or enhancement purposes. Section 104 of the MMPA also provides for Letters of Confirmation under a General Authorization for scientific research; permits for commercial and educational photography of marine mammals; and permits for capture and/or import of marine mammals for public display.

Persons or institutions seeking to take, import, or export protected species must apply for a permit or authorization and demonstrate the statutory and regulatory requirements are met. The regulations pertaining to permits and associated reporting under the MMPA and FSA are at 50 CFR part 216; the regulations for permit requirements under the ESA are at 50 CFR part 222. The required information in this collection is used by NMFS to make the determinations required by the MMPA, FSA, ESA, and their implementing regulations prior to issuing a permit or authorization; to establish appropriate conditions; to evaluate the impacts on protected species; and, to ensure compliance with the Acts.

Information required includes the name, affiliation, contact information and qualifications of the applicant and others listed on the application; the purpose of the request; the species, age, sex, and number of animals; the proposed methods and mitigation to minimize impacts to the species; a description of the impacts to the species and environment; and the requested time frame of the permit. Permit and authorization holders must submit reports on the activities they carry out.

For this renewal, the only change we propose is to provide additional guidance to improve take number estimates and reporting. The intent is to improve the reasonableness of our applicant's take estimates and the accuracy of their subsequent reporting. In reviewing permit reports, we have found that the takes requested are, in many cases, substantially greater than that used. This new guidance will be included in all relevant application instructions.

MMPA Section 104 National Inventory of Marine Mammals

The MMPA requires NMFS to maintain an inventory of marine mammals in public display facilities and for those facilities to report certain information to NMFS' (via the National Inventory of Marine Mammals [NIMM]). The NIMM forms include an institutional contact form, a marine mammal data sheet (MMDS), and a transfer/transport notification form. Inventory information required by the MMPA includes the animal's name or other identification; sex; birth date; date animal enters and leaves a collection; source of the animal (e.g., stranding); where an animal is transferred or transported; and date and cause of death (when determined). Exporting facilities must provide documentation to NMFS that the recipient facility meets standards comparable to those required in the United States. The NIMM forms facilitate compliance with MMPA reporting requirements and allow NMFS to keep NIMM up to date. Based on public comment on the previous PRA notice, we simplified the blank MMDS to only include information necessary for reporting a birth, release, or death, and included definitions for the fields on the MMDS. We are not proposing any changes to the MMDS or the other NIMM forms at this time.

Prior to the previous PRA notice, NMFS published a Federal Register notice (84 FR 4443; February 15, 2019) and extension (84 FR 15593; April 16, 2019) seeking comments on implementing NIMM. After consideration of public comments (available at: https://www.regulations.gov/docket?D=NOAA-NMFS-2019-0012), we had proposed certain inventory reporting revisions in the previous PRA notice. This included proposed revisions MMDS to (1) define birth and clarify that a birth must be reported if the marine mammal is born alive, no matter how long it lives; (2) clarify that stillbirths are not required to be reported; and, (3) standardize reporting of cause of death via a two-tier system. We received comments both for and against these proposed changes as well as comments about public access to NIMM. Commenters also asserted that the use of the February 15, 2019, Federal Register notice seeking comment on “proposed policies and procedures for the administration and maintenance of the online inventory database” did not clearly state that the agency would finalize these policies and procedures through the PRA process. These same commenters expressed concern about the agency's proposal to exclude stillbirths from the “birth” definition.

The agency takes the views of our constituents seriously and because of the substantive comments received, we will not propose those changes to NIMM at this time. Instead, the agency will seek public comment on the final policies and procedures for NIMM through a separate process in the future.

II. Method of Collection

Permit applications, permit report form information, and inventory forms are available as downloadable Word or PDF versions online at https://www.fisheries.noaa.gov/permits-and-forms#protected-resources or via email. Respondents may submit all applications, forms, and reports by email or mail. Respondents may also submit scientific research and enhancement permit applications and Letters of Intent under the General Authorization via our online application system known as APPS (Authorizations and Permits for Protected Species; https://apps.nmfs.noaa.gov).

III. Data

OMB Control Number: 0648-0084.

Form Number(s): NOAA FORMs 89-880, 89-881, and 89-882.

Type of Review: Regular submission (revision of a current information collection).

Affected Public: Individuals; Business or other for-profit organizations; Not-for-profit institutions; State, Local, or Tribal government; Federal government.

Estimated Number of Respondents: 423.

Estimated Time per Response: The estimated average amount of time it takes to complete each information collection instrument is as follows. Scientific research and enhancement permit applications, 50 hours; public display permit applications, 50 hours; protected species parts applications, 20 hours; photography permit applications, 10 hours; General Authorization Letters of Intent, 10 hours; major permit modification requests, 35 hours; minor permit modification requests, 3 hours; scientific research permit reports, 12 hours; scientific research parts only permit reports, 8 hours; General Authorization reports, 8 hours; public display permit reports, 2 hours; photography permit reports, 2 hours; public display inventory reporting, 2 hours; and general record keeping, 2 hours per each type.

Estimated Total Annual Burden Hours: 6,568.

Estimated Total Annual Cost to Public: $80.00 in recordkeeping/reporting costs.

Respondent's Obligation: Mandatory.

Legal Authority: MMPA (16 U.S.C. 1361 et seq.), FSA (16 U.S.C. 1151 et seq.), and ESA (16 U.S.C. 1531 et seq.).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2023-13711 Filed 6-27-23; 8:45 am]

BILLING CODE 3510-22-P